DEPARTMENT OF COMMERCE

Foreign-Trade Zones Board

[B-1-2013]

Foreign-Trade Zone 3—San Francisco, California; Application for Expansion and Expansion of Service Area Under Alternative Site Framework

An application has been submitted to the Foreign-Trade Zones (FTZ) Board (the Board) by the San Francisco Port Commission, grantee of Foreign-Trade Zone 3, requesting authority to expand its service area under the alternative site framework (ASF) adopted by the Board (15 CFR Sec. 400.2(c)), as well as to include an additional usage-driven site. The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u) and the regulations of the Board (15 CFR part 400). It was formally docketed on January 9, 2013.

FTZ 3 was approved by the Board on March 10, 1948 (Board Order 12, 13 FR 1459, 3/19/48) and the zone was reorganized under the ASF on October 7, 2010 (Board Order 1718, 75 FR 64708, 10/20/2010). The zone project currently has a service area that includes the City and County of San Francisco and San Mateo County, California.

The applicant is now requesting authority to expand the service area of the zone to include Contra Costa, Marin and Solano Counties, as well as portions of Napa and Sonoma Counties, California, as described in the application. If approved, the grantee would be able to serve sites throughout the expanded service area based on companies' needs for FTZ designation. The proposed expanded service area is adjacent to the San Francisco U.S. Customs and Border Protection Port of Entry.

The applicant is also requesting authority to include an additional usage-driven site: Proposed Site 6 (15.5 acres)—Coda Automotive Company, 2050 Park Road, Benicia, California (Solano County).

In accordance with the Board's regulations, Christopher Kemp of the FTZ Staff is designated examiner to evaluate and analyze the facts and information presented in the application and case record and to report findings and recommendations to the Board.

Public comment is invited from interested parties. Submissions shall be addressed to the Board's Executive Secretary at the address below. The closing period for their receipt is March 18, 2013. Rebuttal comments in response to material submitted during the foregoing period may be submitted during the subsequent 15-day period to April 1, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: January 9, 2013.
Andrew McGilvray,
Executive Secretary.

[FR Doc. 2013-00727 Filed 1-14-13; 8:45 am]

BILLING CODE 3510-DS-P